NATIONAL ARCHIVES AND RECORDS ADMINISTRATION

Information Security Oversight Office

Public Interest Declassification Board (PIDB); Notice of Meeting

Editorial Note: FR Doc. E7-2866 was originally published at page 7776 in the issue of February 20, 2007. In that publication an incorrect version of this document was published. The corrected document is republished below in its entirety.

Pursuant to Section 1102 of the Intelligence Reform and Terrorism Prevention Act of 2004 which extended and modified the Public Interest Declassification Board (PIDB) as established by the Public Interest Declassification Act of 2000 (Pub. L. 106-567, title VII, December 27, 2000, 114 Stat. 2856), announcement is made for the following committee meeting:

Name of Committee: Public Interest Declassification Board (PIDB).

Date of Meeting: Saturday, February 24, 2007.

Time of Meeting: 9 a.m. to 12 p.m.

Place of Meeting: National Archives and Records Administration, 700 Pennsylvania Avenue, NW., Room 105, Washington, DC 20408.

Purpose: To discuss declassification program issues.

This meeting will be open to the public. However, due to space limitations and access procedures, the name and telephone number of individuals planning to attend must be submitted to the Information Security Oversight Office (ISOO) no later than Monday, February 19, 2007. ISOO will provide additional instructions for gaining access to the location of the meeting.

FOR FURTHER INFORMATION CONTACT: Lee H. Morrison, PIDB Staff, Information Security Oversight Office, National Archives Building, 700 Pennsylvania Avenue, NW., Washington, DC 20408, telephone number (202) 357-5039.

Dated: February 12, 2007.
J. William Leonard,
Director, Information Security Oversight Office.

[FR Doc. E7-2866 Filed 2-16-07; 8:45 am]

Editorial Note: FR Doc. E7-2866 was originally published at page 7776 in the issue of February 20, 2007. In that publication an incorrect version of this document was published. The corrected document is republished in its entirety.

[FR Doc. R7-2866 Filed 2-21-07; 8:45 am]

BILLING CODE 1505-01-D